DEPARTMENT OF COMMERCE

Foreign-Trade Zones Board

[B-38-2018]

Foreign-Trade Zone 163—Ponce, Puerto Rico; Application for Expansion

An application has been submitted to the Foreign-Trade Zones (FTZ) Board by CODEZOL, C.D., grantee of FTZ 163, requesting authority to expand FTZ 163 to include a site in Ponce, Puerto Rico. The application was submitted pursuant to the provisions of the Foreign-Trade Zones Act, as amended (19 U.S.C. 81a-81u), and the regulations of the FTZ Board (15 CFR part 400). It was formally docketed on June 13, 2018.

FTZ 163 was established by the Board on October 18, 1989 (Board Order 443, 54 FR 46097, November 1, 1989), and expanded on April 18, 2000 (Board Order 1091, 65 FR 24676, April 27, 2000), on June 9, 2005 (Board Order 1397, 70 FR 36117, June 22, 2005), on July 26, 2006 (Board Order 1467, 71 FR 44996, August 8, 2006), on November 9, 2006 (Board Order 1487, 71 FR 67098, November 20, 2006), on June 26, 2009 (Board Order 1631, 74 FR 34306-34307, July 15, 2009), on July 8, 2010 (Board Orders 1692 and 1693, 75 FR 41801, July 19, 2010), and on May 24, 2012 (Board Order 1830, 77 FR 32929, June 4, 2012).

The zone project currently consists of the following sites in Puerto Rico: Site 1 (269 acres, 5 parcels)—within the Port of the Americas located at the Port of Ponce, at 3309 Avenida Santiago de los Caballeros, at Percon Industrial Park, at Phase 3A 100% and at Bayland, Ponce; Site 2 (183.8 acres, 5 parcels)—Peerless Oil & Chemicals, Inc., petroleum terminal facilities in Peñuelas and Guaynilla; Site 3 (3 acres)—Hato Rey Distribution Center, located at Angel Buonoma Street #361 and #71, San Juan; Site 4 (14 acres)—Centro Automatriz Santa Rosa, Inc., State Road No. 3, Km 140.1, Guayama; Site 5 (256 acres)—Mercedita Industrial Park, Rt. PR-9 and Las Americas Highway, Ponce; Site 6 (86 acres)—Coto Laurel Industrial Park, Highways PR-56 and PR-52, Ponce; Site 7 (17.2 acres)—Cesar Castillo warehouse, State Road No. 1, Km 21.1, Guaynabo; Site 8 (5 acres)—Ayala Warehouse, Inc., 42 Salmon Street, Ponce; Site 10 (5.83 acres)—Colomer & Suarez, Inc., Centro de Distribucion Playa de Ponce, Building 7, Avenida Santiago de los Caballeros, Ponce; Site 11 (52 acres)—ProCaribe, Road 385, Km 5.4, Bo. Tallaboa, Peñuelas; Site 12 (5.97 acres)—Yaucono Industrial Park, 2822 Las Americas Avenue, Corner Cuatro Calles, Ponce; and, Site 13 (10 acres)—Rio Piedras Distribution Center, Quebrada Arena Industrial Park, PR Road #1, Km 26.0, San Juan. (Note: Sites 9, 14, 15 and 16 have expired and the site numbers will not be reused.)

The applicant is requesting authority to expand the zone to include a site in Ponce: Proposed Site 17 (29.184 acres)—Ponce Regional Distribution Center, 3199 Ave. Santiago de los Caballeros, Ponce. No authorization for production activity is being requested at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is August 20, 2018. Rebuttal comments in response to material submitted during the foregoing period may be submitted during the subsequent 15-day period to September 4, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: June 13, 2018.
Andrew McGilvray,
Executive Secretary.

[FR Doc. 2018-13133 Filed 6-18-18; 8:45 am]

BILLING CODE 3510-DS-P